DEPARTMENT OF COMMERCE

International Trade Administration

Trade Mission to Chile, Peru, Bolivia, Paraguay, Uruguay, Mexico and Argentina in Conjunction With Trade Winds—Latin America Business Forum

September 6-13, 2016.

AGENCY: International Trade Administration, Department of Commerce.

ACTION: Notice.

SUMMARY: The United States Department of Commerce, International Trade Administration is organizing a trade mission to Chile, Peru, Bolivia, Paraguay, Uruguay, Mexico and Argentina that will include the Trade Winds—Latin America business forum in Santiago, Chile on September 7-9, 2016. U.S. trade mission members will participate in the Trade Winds—Latin America business forum in Santiago, Chile, which is also open to U.S. companies not participating in the trade mission. Trade mission participants may also choose to participate in their choice of trade mission stops based on recommendations from the USFCS, including in Chile, Peru, Bolivia, Paraguay, Uruguay, Mexico and Argentina. Each trade mission stop will include one-on-one business appointments with pre-screened potential buyers, agents, distributors or joint-venture partners. Trade mission participants in the Trade Winds—Latin America business forum may attend regional and industry-specific sessions and consultations with USFCS Senior Commercial Officers and other government officials representing the Western Hemisphere region during the business forum in Santiago, Chile on September 7-9, 2016.

This mission is open to U.S. companies and trade associations from a cross-section of industries with growth potential in Chile, Peru, Bolivia, Paraguay, Uruguay, Mexico and Argentina, including, but not limited to the following industries: Power generation, transmission and distribution technology and equipment; oil and gas equipment and technology; mining and construction equipment; building products; agricultural equipment and technology; information communications technology and equipment; healthcare and medical products, equipment, and services; water technologies; environmental technologies; consumer products; and safety and security products and services.

Schedule
Monday, September 5, 2016 | Arrive in Mexico City, Mexico; Santa Cruz, Bolivia; or Asuncion, Paraguay (if electing to participate in one of these mission stops).
Tuesday, September 6, 2016 | Mexico City, Mexico; Santa Cruz, Bolivia; or Asuncion, Paraguay (choice of one mission stop).
| Business to Business meetings and networking with government and business officials.
Wednesday, September 7, 2016 | Arrive in Santiago, Chile.
Thursday and Friday, September 8-9, 2016 | Santiago, Chile: Trade Winds Business Forum and SCO Consultations.
| Market Briefings, Business to Business meetings, consultations with U.S. Government trade representatives and networking with U.S. and foreign government and business officials.
Saturday, September 10, 2016 | Travel Day.
Sunday, September 11, 2016 | Arrive in Montevideo, Uruguay; Buenos Aires/Cordoba, Argentina; or Lima, Peru (if electing to participate in one of these mission stops).
Monday and Tuesday, September 12-13, 2016 | Montevideo, Uruguay; Buenos Aires/Cordoba, Argentina; or Lima, Peru (choice of one mission stop).
| Business to Business meetings and networking with government and business officials.

Web site: Please visit our official mission Web site for more information: http://www.export.gov/eac/show_detail_trade_events.asp?EventID=36416&InputType=EVENT.

Participation Requirements

All parties interested in participating in the trade mission to Chile, Peru, Bolivia, Paraguay, Uruguay, Mexico and Argentina must complete and submit an application package for consideration by the Department of Commerce. All applicants will be evaluated on their ability to meet certain conditions and best satisfy the selection criteria as outlined below.

A minimum of 30 companies and/or trade associations will be selected to participate in the mission from the applicant pool on a first-come, first-served basis. Mission stop participation will be limited as follows: The Bolivia mission stop is limited to 15 companies; the Paraguay mission stop is limited to 5 companies; the Uruguay mission stop is limited to 15 companies; the Argentina mission stop is limited to 20 companies; Peru mission stop is limited to 10 companies; Mexico mission stop is limited to 20 companies; and the Chile mission stop is limited to 30 companies.

Additional delegates may be accepted based on available space. U.S. companies and/or trade associations already doing business in or seeking business in Chile, Peru, Bolivia, Paraguay, Uruguay, Mexico and Argentina for the first time may apply.

Fees and Expenses

After a company has been selected to participate in the mission, a payment to the Department of Commerce in the form of a participation fee is required.

• For one mission stop, the participation fee will be $1,900 for a small or medium-sized enterprise (SME) and $2,900 for large firms.

• For two mission stops, the participation fee will be $2,900 for a small or medium-sized enterprise (SME) and $3,900 for large firms.

• For three mission stops, the participation fee will be $3,900 for a small or medium-sized enterprise (SME) and $4,900 for large firms.

The above trade mission fees include the $950 participation fee for the Trade Winds business forum to be held in Santiago, Chile on September 7-9, 2016.

An additional representative for both SMEs and large firms will require an additional fee of $950.

Application

All interested firms and associations may register via the following link: http://emenuapps.ita.doc.gov/ePublic/TM/6R0R.

Exclusions

The mission fee does not include any personal travel expenses such as lodging, most meals, local ground transportation (except for transportation to and from meetings), and air transportation. Participants may, however, be able to take advantage of U.S. Government rates for hotel rooms if available. Business or entry visas may be required to participate on the mission. Applying for and obtaining such visas will be the responsibility of the mission participant. Government fees and processing expenses to obtain such visas are not included in the participation fee. However, the Department of Commerce will provide instructions to each participant on the procedures required to obtain necessary visas.

Timeline for Recruitment and Applications

Mission recruitment will be conducted in an open and public manner, including publication in the Federal Register, posting on the Commerce Department trade mission calendar (http://export.gov/trademissions) and other Internet Web sites, press releases to general and trade media, direct mail, notices by industry trade associations and other multiplier groups, and publicity at industry meetings, symposia, conferences, and trade shows.

Recruitment for the mission will begin immediately and conclude no later than June 15, 2016. The U.S. Department of Commerce will review applications and make selection decisions on a rolling basis beginning 14 DAYS AFTER PUBLICATION OF THIS FEDERAL REGISTER NOTICE, until the minimum of 30 participants is selected. After June 15, 2016, applications will be considered only if space and scheduling constraints permit.

Conditions for Participation

An applicant must submit a completed and signed mission application and supplemental application materials, including adequate information on the company's products and/or services, primary market objectives, and goals for participation. Applicant should specify in their application and supplemental materials which trade mission stops they are interested in participating in. If the Department of Commerce receives an incomplete application, the Department may reject the application, request additional information, or take the lack of information into account when evaluating the applications.

Each applicant must also certify that the products and services it seeks to export through the mission are either produced in the U.S., or, if not, marketed under the name of a U.S. firm and have at least 51% U.S. content of the value of the finished product or service. In the case of a trade association or trade organization, the applicant must certify that, for each company to be represented by the trade association or trade organization, the products and services the represented company seeks to export are either produced in the United States, or, if not, marketed under the name of a U.S. firm and have at least 51% U.S. content.

The following criteria will be evaluated in selecting participants:

• Suitability of a firm's or service provider's (or in the case of a trade association/organization, represented firm or service provider's) products or services to these markets.

• Firm's or service provider's (or in the case of a trade association/organization, represented firm or service provider's) potential for business in the markets, including likelihood of exports resulting from the mission.

• Consistency of the firm's or service provider's (or in the case of a trade association/organization, represented firm or service provider's) goals and objectives with the stated scope of the mission.

Diversity of company size, sector or subsector, and location may also be considered during the review process.

Referrals from political organizations and any documents containing references to partisan political activities (including political contributions) will be removed from an applicant's submission and not considered during the selection process.

Referrals from political organizations and any documents containing references to partisan political activities (including political contributions) will be removed from an applicant's submission and not considered during the selection process.

FOR FURTHER INFORMATION CONTACT: Diego Gattesco, Director, U.S. Export Assistance Center—Wheeling, WV, Diego.Gattesco@trade.gov, Tel: 304-243-5493.

Ms. Ethel Glenn, International Trade Specialist, Office of Trade Promotion Programs, U.S. Department of Commerce, Washington, DC 20230. Ethel.Glenn@trade.gov.

Frank Spector,
Acting Director, Trade Missions Program.

[FR Doc. 2015-31143 Filed 12-9-15; 8:45 am]

BILLING CODE 3510-DR-P